DEPARTMENT OF COMMERCE

International Trade Administration

[A-423-808]

Stainless Steel Plate in Coils From Belgium: Final Results of Antidumping Duty Administrative Review

AGENCY: Import Administration, International Trade Administration, U.S. Department of Commerce.

SUMMARY: On June 8, 2009, the Department of Commerce (the Department) published the preliminary results of the antidumping duty order on stainless steel plate in coils (SSPC) from Belgium. See Stainless Steel Plate in Coils From Belgium: Preliminary Results of Antidumping Duty Administrative Review, 74 FR 27097 (June 8, 2009) (Preliminary Results). This review covers one manufacturer/exporter of the subject merchandise: ArcelorMittal Stainless Belgium N.V. (AMS Belgium). The period of review (POR) is May 1, 2007, through April 30, 2008.

Based on our analysis of the comments received, we have made changes to the Preliminary Results. For the final dumping margins see the “Final Results of Review” section below.

DATES: Effective Date: October 19, 2009.

FOR FURTHER INFORMATION CONTACT: Joy Zhang or George McMahon at (202) 482-1168 or (202) 482-1167, respectively; Office of AD/CVD Operations 3, Import Administration, International Trade Administration, U.S. Department of Commerce, 14th Street and Constitution Avenue, NW., Washington, DC 20230.

SUPPLEMENTARY INFORMATION:

Background

On June 8, 2009, the Department published in the Federal Register the preliminary results of the seventh administrative review of the antidumping duty order on SSPC from Belgium. See Preliminary Results. Since the Preliminary Results, a case brief was timely filed by AMS Belgium on July 8, 2009 (AMS case brief). The petitioners ¹ did not submit a case brief or rebuttal brief.

¹

The petitioners in this case include: Allegheny Ludlum Corporation, North American Stainless, United Auto Workers Local 3303, Zanesville Armco Independent Organization, and the United Steelworkers of America, AFL-CIO/CLC (collectively, the petitioners).

The issues raised in the case brief by AMS Belgium are addressed in the memorandum titled, “Issues and Decision Memorandum for the Final Results of the Seventh Administrative Review of the Antidumping Duty Order on Stainless Steel Plate in Coils from Belgium (2007-2008)”, from John M. Andersen, Acting Deputy Assistant Secretary for Antidumping and Countervailing Duty Operations, to Ronald K. Lorentzen, Acting Assistant Secretary for Import Administration (October 6, 2009) (Decision Memorandum), which is hereby adopted by this notice. A list of the issues addressed in the Decision Memorandum is appended to this notice. The Decision Memorandum is on file in the Central Records Unit (CRU), room 1117 of the Department of Commerce main building and can be accessed directly at http://ia.ita.doc.gov/frn/index.html. The paper copy and electronic version of the Decision Memorandum are identical in content.

Scope of the Antidumping Duty Order

The product covered by this order is certain stainless steel plate in coils. Stainless steel is an alloy steel containing, by weight, 1.2 percent or less of carbon and 10.5 percent or more of chromium, with or without other elements. The subject plate products are flat-rolled products, 254 mm or over in width and 4.75 mm or more in thickness, in coils, and annealed or otherwise heat treated and pickled or otherwise descaled. The subject plate may also be further processed (cold-rolled, polished, etc.) provided that it maintains the specified dimensions of plate following such processing. Excluded from the scope of this order are the following: (1) Plate not in coils; (2) Plate that is not annealed or otherwise heat treated and pickled or otherwise descaled; (3) Sheet and strip; and (4) Flat bars.

The merchandise subject to this order is currently classifiable in the Harmonized Tariff Schedule of the United States (HTSUS) at subheadings: 7219.11.00.30, 7219.11.00.60, 7219.12.00.06, 7219.12.00.21, 7219.12.00.26, 7219.12.00.51, 7219.12.00.56, 7219.12.00.66, 7219.12.00,71, 7219.12.00.81, 7219.31.00.10, 7219.90.00.10, 7219.90.00.20, 7219.90.00.25, 7219.90.00.60, 7219.90.00.80, 7220.11.00.00, 7220.20.10.10, 7220.20.10.15, 7220.20.10.60, 7220.20.10.80, 7220.20.60.05, 7220.20.60.10, 7220.20.60.15, 7220.20.60.60, 7220.20.60.80, 7220.90.00.10, 7220.90.00.15, 7220.90.00.60, and 7220.90.00.80. Although the HTSUS subheadings are provided for convenience and customs purposes, the written description of the merchandise subject to these orders is dispositive.

Period of Review

The period of review is May 1, 2007, through April 30, 2008.

Changes Since the Preliminary Results

Based on our analysis of the comments received, we have made changes in the calculations for the final dumping margin. The changes made since the Preliminary Results are listed under the “List of Issues,” which is appended to this notice. The changes are discussed in detail in the memorandum to the File Through James Terpstra from Joy Zhang and titled, “Analysis Memorandum for ArcelorMittal Stainless Belgium N.V. for the Final Results of the Seventh Administrative Review of Stainless Steel Plate in Coils (SSPC) from Belgium,” dated October 6, 2009 (Final Sales Analysis Memorandum).

Facts Available

As discussed in the Preliminary Results, we found that it was appropriate to resort to facts otherwise available with an adverse inference to account for a certain selling expense ² and U.S. other transportation expenses. The respondent, AMS Belgium, raised several issues in its case brief regarding the Department's application of facts otherwise available with an adverse inference with respect to the certain selling expense and the U.S. other transportation expenses. See the Decision Memorandum for a discussion of these issues.

²

Due to the proprietary nature of this particular expense, see the Department's discussion of this expense in the proprietary version of the Department's Final Sales Analysis Memorandum, dated October 6, 2009.

We have considered the issues raised by AMS Belgium. With respect to the certain selling expense, the Department maintains its decision from the Preliminary Results that facts otherwise available with an adverse inference are warranted for these final results. Id. With respect to the U.S. other transportation expenses (data field name: USOTHR1U) reported by AMS Belgium, we have reconsidered the information provided and have changed our position, as outlined in the Preliminary Results, in which we applied facts otherwise available with an adverse inference for this expense. Specifically, during the sales verification, the company officials presented the Department with a calculation for this expense that was incorrect due to the weight basis applied therein. After reviewing AMS Belgium's case brief and our sales verification report and exhibits with respect to the calculation of USOTHR1U, we agree with AMS Belgium that we made a ministerial error in our two sample calculations of the per-unit USOTHR1U referenced in the Preliminary Results. Final Sales Analysis Memorandum. We find that AMS Belgium's recalculated USOTHR1U values provided at the constructed export price (CEP) verification for these two sample sales are correct. Accordingly, for the final results, we will use the actual USOTHR1U value that we collected at the CEP verification. See Sales Verification Exhibit 19; see also AMS case brief at Appendix 1.

Final Results of Review

As a result of our review, we determine that the following weighted- average margin exists for the period May 1, 2007, through April 30, 2008:

Manufacturer/exporter | Margin (percent)
ArcelorMittal Stainless Belgium N.V. | 6.57

Duty Assessment

The Department shall determine and U.S. Customs and Border Protection (CBP) shall assess antidumping duties on all appropriate entries. Pursuant to 19 CFR 351.212(b)(1), the Department calculates an assessment rate for each importer of the subject merchandise for each respondent. Upon issuance of the final results of this administrative review, if any importer-specific assessment rates calculated in the final results are above 4. minimis (i.e., at or above 0.5 percent), the Department will issue appraisement instructions directly to CBP to assess antidumping duties on appropriate entries.

To determine whether the duty assessment rates covering the period were minimis, in accordance with the requirement set forth in 19 CFR 351.106(c)(2), for each respondent we calculated importer (or customer)-specific ad valorem rates by aggregating the dumping margins calculated for all U.S. sales to that importer or customer and dividing this amount by the total value of the sales to that importer (or customer). Where an importer (or customer)-specific ad valorem rate is greater than de minimis, and the respondent has reported reliable entered values, we apply the assessment rate to the entered value of the importer's/customer's entries during the review period. Where an importer (or customer)-specific ad valorem rate is greater than minimis and we do not have reliable entered values, we calculate a per-unit assessment rate by aggregating the dumping duties due for all U.S. sales to each importer (or customer) and dividing this amount by the total quantity sold to that importer (or customer).

The Department clarified its “automatic assessment” regulation on May 6, 2003. See Antidumping and Countervailing Duty Proceedings: Assessment of Antidumping Duties, 68 FR 23954 (May 6, 2003). This clarification will apply to entries of subject merchandise during the POR produced by the respondent for which it did not know its merchandise was destined for the United States. In such instances, we will instruct CBP to liquidate unreviewed entries at the all-others rate if there is no rate for the intermediate company(ies) involved in the transaction. For a full discussion of this clarification, see Antidumping and Countervailing Duty Proceeding Assessment of Antidumping Duties, 68 FR 23954 (May 6, 2003).

We have been enjoined from liquidating entries of the subject merchandise produced and exported by Ugine & ALZ Belgium N.V. (U&A Belgium). Therefore, we do not intend to issue liquidation instructions to U.S. Customs and Border Protection (CBP) for entries made during the period May 1, 2007, through April 30, 2008, until such time the preliminary injunction issued on January 16, 2009, is lifted.

Cash Deposit Requirements

The following antidumping duty deposit rates will be effective upon publication of the final results of this administrative review for all shipments of SSPC from Belgium entered, or withdrawn from warehouse, for consumption on or after the publication date of these final results, as provided for by section 751(a)(1) of the Tariff Act of 1930, as amended (the Act): (1) For AMS Belgium, the cash deposit rate will be the rate established in the final results of this review; (2) if the exporter is not a finn covered in this review, but was covered in a previous review or the original less-than-fair-value (LTFV) investigation, the cash deposit rate will continue to be the company-specific rate established for the most recent period; (3) if the exporter is not a firm covered in this review, a prior review, or the LTFV investigation, but the manufacturer is, the cash deposit rate will be the rate established for the most recent period for the manufacturer of the subject merchandise; and (4) if neither the exporter nor the manufacturer is a firm covered by this review, a prior review, or the LTFV investigation, the cash deposit rate will be 9.86 percent ad valorem, the “all-others” rate established in the LTFV investigation. See Notice of Final Determination of Sales at Less Than Fair Value: Stainless Steel Plate in Coils from Belgium, 64 FR 15476 (March 31, 1999). These deposit rates, when imposed, shall remain in effect until further notice.

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

Notification Regarding APOs

This notice also serves as a reminder to parties subject to administrative protective orders (APO) of their responsibility concerning the disposition of proprietary information disclosed under APO in accordance with 19 CFR 351.305(a)(5). Timely written notification of the return/destruction of APO materials or conversion to judicial protective order is hereby requested. Failure to comply with the regulations and terms of an APO is a sanctionable violation.

This administrative review and notice are in accordance with sections 751(a)(1) and 777(i)(1) of the Act.

Dated: October 6, 2009.
Ronald K. Lorentzen,
Acting Assistant Secretary for Import Administration.

Appendix

List of Issues

Comment 1: Whether the Department Incorrectly Converted Inventory Carrying Costs (DINVCARU).

Comment 2: Whether to Exclude Certain Sales Transactions from the U.S. Sales Listing.

Comment 3: Whether to Use Facts Otherwise Available for U.S. Other Transportation Costs (USOTHR1U).

Comment 4: Whether to Use Facts Otherwise Available for Failing to Report a Certain Selling Expense.

Comment 5: Whether to Use AMS Belgium's Reported U.S. Warranty Expense.

Comment 6: Whether to Offset Negative Margins.

[FR Doc. E9-24699 Filed 10-16-09; 8:45 am]

BILLING CODE 3510-DS-M